DEPARTMENT OF THE INTERIOR

Bureau of Land Management

[LLWO-220000-L1020000-JA0000-LXSIVEIS0000-15XL1109AF]

Notice of Availability of the Draft Programmatic Environmental Impact Statement To Evaluate the Use of Herbicides on Public Lands Administered by the Bureau of Land Management

AGENCY: Bureau of Land Management, Interior.

ACTION: Notice.

SUMMARY: Pursuant to the National Environmental Policy Act of 1969 (NEPA), the Bureau of Land Management (BLM) is making available for public review and comment a national Draft Programmatic Environmental Impact Statement (EIS) on vegetation treatments involving the use of aminopyralid, fluroxypyr, and rimsulfuron herbicides on public lands administered by the BLM in 17 western states, including Alaska.

DATES: To ensure comments will be considered, the BLM must receive written comments on the Draft Programmatic EIS within 45 days following the date the Environmental Protection Agency publishes its Notice of Availability in the Federal Register. The BLM will announce future meetings or hearings and any other public involvement activities at least 15 days in advance through public notices, media releases, and/or mailings.

ADDRESSES: You may submit comments related to the Draft Programmatic EIS by any of the following methods:

Web site: http://blm.gov/3vkd.

Email: blm_wo_vegeis@blm.gov.

Fax: 206-623-3793.

Mail: AECOM, Attn. Stuart Paulus, 710 Second Avenue, Suite 1000, Seattle, WA 98104.

Documents pertinent to this proposal may be examined at the BLM Washington Office, 20 M Street SE., Room 2134, Washington, DC 20003.

FOR FURTHER INFORMATION CONTACT: Gina Ramos, Senior Weeds Specialist, telephone 202-912-7226; or Stuart Paulus, Project Manager, telephone 206-403-4287. Persons who use a telecommunications device for the deaf (TDD) may call the Federal Information Relay Service (FIRS) at 1-800-877-8339 to contact the referenced individuals during normal business hours. The FIRS is available 24 hours a day, 7 days a week, to leave a message or question with the above individuals. You will receive a reply during normal business hours.

SUPPLEMENTARY INFORMATION: The BLM proposes to add aminopyralid, fluroxypyr, and rimsulfuron to the agency's approved list of herbicides for: (1) Controlling noxious weeds and other invasive species; and (2) Conserving and restoring native vegetation, watersheds, and fish and wildlife habitat. The Draft Programmatic EIS will evaluate the use of the three new herbicides as part of the BLM's vegetation treatment programs on public lands in 17 Western States. Approval of this proposal would increase the number of active ingredients approved for use, and would give the BLM increased flexibility and options when designing herbicide treatments. The analysis area includes only surface estate public lands administered by 11 BLM state offices: Alaska, Arizona, California, Colorado, Idaho, Montana (Montana, North Dakota/South Dakota), New Mexico (New Mexico, Oklahoma, Texas, Nebraska), Nevada, Oregon (Oregon, Washington), Utah, and Wyoming.

For further information, to provide written comments, or to be placed on the mailing list, contact Gina Ramos, BLM Project Manager, Bureau of Land Management,1849 C Street NW., Rm 2134 LM, WO-220, Washington, DC 20240; email gramos@blm.gov; telephone 202- 912-7226. The Draft Programmatic EIS and associated documents will be available for review in either hard copy or on compact disks at all BLM State, District, and Field Office public rooms. The entire document can also be reviewed or downloaded at the BLM National Web site at http://blm.gov/3vkd. Please note that public comments and information submitted, including names, street addresses, and email addresses of persons who submit comments, will be available for public review and disclosure at the locations listed under ADDRESSES during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Shelley Smith,
Acting Assistant Director, Resources and Planning.

[FR Doc. 2015-15118 Filed 6-18-15; 8:45 am]

BILLING CODE 4310-84-P